DEPARTMENT OF DEFENSE

Office of the Secretary

[Transmittal No. 10-67]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Mr. John Unglesbee, DSCA/DBO/CFM, (703) 601-6026.

The following is a copy of a letter to the Speaker of the House of Representatives, Transmittal 10-67 with attached transmittal, policy justification, and Sensitivity of Technology statement.

Dated: July 11, 2011.
Aaron Siegel,
Alternate OSD Federal Register Liaison Officer, Department of Defense.

BILLING CODE 5001-06-P

BILLING CODE 5001-06-C

Transmittal No. 10-67

Notice of Proposed Issuance of Letter of Offer Pursuant to Section 36(b)(1) of the Arms Export Control Act, as amended

(i) Prospective Purchaser: Egypt

(ii) Total Estimated Value:

Major Defense Equipment | $ .980 billion
Other | .349 billion
Total | 1.329 billion

(iii) Description and Quantity or Quantities of Articles or Services Under Consideration for Purchase: 125 M1A1 Abrams tank kits for co-production, 125 M256 Armament Systems, 125 M2 .50 caliber machine guns, 250 M240 7.62mm machine guns, 125 AGT-1500 M1A1 series tank engines and transmissions, 120mm test cartridges, spare and repair parts, maintenance, support equipment, special tool and test equipment, personnel training and equipment, publications and technical documentation, U.S. Government and contractor engineering and logistics support services, and other related elements of logistics and program support. Articles may be provided in furtherance of a co-production agreement.

(iv) Military Department: Army (NFY, NFZ, VCV, VCW)

(v) Prior Related Cases, if any: numerous cases from 1988 through 2007

(vi) Sales Commission, Fee, etc., Paid, Offered, or Agreed to be Paid: None

(vii) Sensitivity of Technology Contained in the Defense Article or Defense Services Proposed to be Sold: See Annex attached

(viii) Date Report Delivered to Congress:

* as defined in Section 47(6) of the Arms Export Control Act.

Policy Justification

Egypt—Co-Production of M1A1 Abrams Tank

The Government of Egypt has requested a possible sale that includes 125 M1A1 Abrams tank kits for co-production, 125 M256 Armament Systems, 125 M2 .50 caliber machine guns, 250 M240 7.62mm machine guns, 125 AGT-1500 M1A1 series tank engines and transmissions, 120mm test cartridges, spare and repair parts, maintenance, support equipment, special tool and test equipment, personnel training and equipment, publications and technical documentation, U.S. Government and contractor engineering and logistics support services, and other related elements of logistics and program support. Articles may be provided in furtherance of a co-production agreement. The estimated cost is $1.329 billion.

This proposed sale will contribute to the foreign policy and national security of the United States by helping to improve the security of a friendly country that has been and continues to be an important force for political stability and economic progress in the Middle East.

The additional M1A1 tanks will provide Egypt with a modern tank fleet, enhancing its capability to meet current and future threats. This will contribute to Egypt's goal to update its military capability while further enhancing interoperability between Egypt, the U.S., and other allies. Egypt, which has co-produced the M1A1 Abrams tank, will have no difficulty absorbing the additional tanks.

The proposed sale of this equipment and support will not alter the basic military balance in the region.

The prime contractors will be General Dynamics in Sterling Heights, Michigan, Honeywell International Incorporated in Phoenix, Arizona, and Allison Transmission Motors in Indianapolis, Indiana. There are no known offset agreements proposed in connection with this potential sale.

Implementation of this proposed sale will require the assignment of approximately 4 U.S. government and 35 contractor representatives for up to three years in Egypt to manage this production and fielding program.

There will be no adverse impact on U.S. defense readiness as a result of this proposed sale.

Transmittal No. 10-67

Notice of Proposed Issuance of Letter of Offer Pursuant to Section 36(b)(1) of the Arms Export Control Act

Annex

Item No. vii

(vii) Sensitivity of Technology:

1. The M1A1 Thermal Imaging System (TIS) 2nd Generation Forward Looking Infrared (FLIR) constitutes a target acquisition system which, when operated with other tank systems, gives the tank crew a substantial advantage over a potential threat. The TIS provides the M1A1 crew with the ability to effectively aim and fire the tank main armament system under a broad range of adverse battlefield conditions. The hardware itself is Unclassified. The engineering design and manufacturing data associated with the detector and infrared (IR) optics and coatings are considered sensitive. The technical data package is Unclassified with exception of the specifications for target acquisition range (Confidential), nuclear hardening (Confidential, restricted data), and laser hardening (Secret).

2. The M1A1 Tank Special Armor and other special armors used in the hull and turret are classified at the Secret level. Major components of special armor are fabricated in sealed modules and in serialized removable subassemblies. Special armor components and associated vulnerability data for both chemical and kinetic energy rounds are classified Secret.

3. Most of the components of the training ammunition are not considered to be sensitive material or technology. These rounds could be reverse engineered given sufficiently capable analysis. Technical information available from testing and analysis of this ammunition could form the basis of research to develop more capable rounds.

4. The use of the Advanced Gas Turbine-1500 (AGT-1500) Gas Turbine Propulsion System in the MlA1 is a unique application of armored vehicle power-pack technology. The hardware is composed of the AGT-1500 engine and transmission, and is Unclassified. Manufacturing processes associated with the production of turbine blades, recuperator, bearings and shafts, and hydrostatic pump and motor, are proprietary and therefore commercially competition sensitive.

5. A major survivability feature of the Abrams tank is the compartmentalization of fuel and ammunition. Compartmentalization is the positive separation of the crew and critical components from combustible materials. In the event that the fuel or ammunition is ignited or deteriorated by an incoming threat round, the crew is fully protected by the compartmentalization. Sensitive information includes the performance of the ammunition compartments as well as the compartment design parameters.

6. If a technologically advanced adversary were to obtain knowledge of the specific hardware and software elements, the information could be used to develop countermeasures which might reduce weapon system effectiveness or be used in the development of a system with similar or advanced capabilities.

[FR Doc. 2011-18011 Filed 7-15-11; 8:45 am]

BILLING CODE 5001-06-P